DEPARTMENT OF COMMERCE

International Trade Administration

[A-201-847]

Heavy Walled Rectangular Welded Carbon Steel Pipes and Tubes From Mexico: Preliminary Results and Rescission in Part, of the Antidumping Duty Administrative Review; 2022-2023

AGENCY: Enforcement and Compliance, International Trade Administration, Department of Commerce.

SUMMARY: The U.S. Department of Commerce (Commerce) preliminarily determines heavy walled rectangular welded carbon steel pipes and tubes (HWR) from Mexico were sold at less than normal value during the period of review (POR), September 1, 2022, through August 31, 2023. Additionally, Commerce is rescinding this review, in part, with respect to certain companies. We invite interested parties to comment on these preliminary results.

DATES: Applicable October 23, 2024.

FOR FURTHER INFORMATION CONTACT: Taylor Hatley or Christopher Hargett, AD/CVD Operations, Office II, Enforcement and Compliance, International Trade Administration, U.S. Department of Commerce, 1401 Constitution Avenue NW, Washington, DC 20230; telephone: (202) 482-4886 or (202) 482-4161, respectively.

SUPPLEMENTARY INFORMATION:

Background

On September 13, 2016, Commerce published in the Federal Register the antidumping duty order on HWR from Mexico.¹ On September 6, 2023, Commerce published in the Federal Register a notice of opportunity to request an administrative review of the Order.² On November 15, 2023, based on timely requests for review, in accordance with 19 CFR 351.221(c)(1)(i), we initiated an administrative review of the Order with respect to 19 companies.³ On December 9, 2022, Commerce selected Maquilacero S.A. de C.V. (Maquilacero) and Productos Laminados de Monterrey S.A. de C.V. (Prolamsa) for individual examination as mandatory respondents in this administrative review.⁴

¹ See Heavy Walled Rectangular Welded Carbon Steel Pipes and Tubes from the Republic of Korea, Mexico, and the Republic of Turkey: Antidumping Duty Orders, 81 FR 62865, (September 13, 2016) (Order).

² See Antidumping or Countervailing Duty Order, Finding, or Suspended Investigation; Opportunity to Request Administrative Review and Join Annual Inquiry Service List, 88 FR 60923 (September 6, 2023).

³ See Initiation of Antidumping and Countervailing Duty Administrative Reviews, 88 FR 78298 (November 15, 2023) (Initiation Notice).

⁴ See Memorandum, “Respondent Selection for the 2022-2023 Antidumping Duty Administrative Review,” dated January 11, 2024.

On May 16, 2024, Commerce extended the preliminary results of this review until August 30, 2024.⁵ On July 22, 2024, Commerce tolled certain deadlines in this administrative proceeding by seven days.⁶ Subsequently on August 15, 2024, Commerce extended the deadline for the preliminary results until October 4, 2024.⁷ For a complete description of the events that followed the initiation of this review, see the Preliminary Decision Memorandum.⁸

⁵ See Memorandum, “Extension of Deadline for the Final Results of Antidumping Duty Administrative Review,” dated May 16, 2024.

⁶ See Memorandum, “Tolling of Deadlines for Antidumping and Countervailing Duty Proceedings,” dated July 22, 2024.

⁷ See Memorandum, “Extension of Deadline for Preliminary Results of Antidumping Duty Administrative Review,” dated August 15, 2024.

⁸ See Memorandum, “Decision Memorandum for the Preliminary Results of the 2022-2023 Administrative Review of the Antidumping Duty Order on Certain Carbon and Alloy Steel Cut-to-Length Plate from Italy,” (Preliminary Decision Memorandum) dated concurrently with, and hereby adopted by, this notice.

Rescission of Administrative Review in Part

Pursuant to 19 CFR 351.213(d)(1), Commerce will rescind an administrative review, in whole or in part, if a party who requested the review withdraws the request within 90 days of the date of publication of the notice of initiation of the requested review. On February 13, 2024, Nucor Tubular Products, Inc. (the petitioner) timely withdrew its request for an administrative review with respect to 17 companies.⁹ Because no other parties requested a review of these companies, we are rescinding this review, in part, with respect to these 17 companies.¹⁰

⁹ See Petitioner's Letter, “Partial Withdrawal of Request for Administrative Review,” dated February 13, 2024.

¹⁰ Companies for which the review request was withdrawn are: (1) Aceros del Toro S.A. de C.V.; (2) Aceros El Fraile S.A. de C.V.; (3) Arco Metal S.A. de C.V.; (4) Border Assembly S. de R.L. de C.V.; (5) Buffalo Tube S.A. de C.V.; (6) Fortacero S.A. de C.V.; (7) Forza Steel S.A. de C.V.; (8) Grupo Collado S.A. de C.V; (9) Industrias Monterrey S.A. de C.V.; (10) Perfiles y Herrajes L.M. S.A. de C.V.; (11) P.J. Trailers Company S.A. de C.V.; (12) Placa y Fierro de Monterrey S.A. de C.V.; (13) PYTCO S.A. de C.V.; (14) Regiomontana de Perfiles y Tubos S.A. de C.V.; (15) Ternium S.A. de C.V.; (16) Tuberia Nacional S.A. de C.V.; and (17) Tuberias Procarsa S.A. de C.V.

Scope of the Order

The products covered by the Order are HWR pipes and tubes from Mexico. For a complete description of the scope of the Order, see the Preliminary Decision Memorandum.

Methodology

Commerce is conducting this review in accordance with sections 751(a)(1)(B) and (2) of the Tariff Act of 1930, as amended (the Act). Export price and constructed export price are calculated in accordance with section 772 of the Act. Normal value is calculated in accordance with section 773 of the Act.

For a full description of the methodology underlying these preliminary results, see the Preliminary Decision Memorandum. A list of topics discussed in the Preliminary Decision Memorandum is attached as an appendix to this notice. The Preliminary Decision Memorandum is a public document and is made available to the public via Enforcement and Compliance's Antidumping and Countervailing Duty Centralized Electronic Service System (ACCESS). ACCESS is available to registered users at https://access.trade.gov. In addition, a complete version of the Preliminary Decision Memorandum is available at https://access.trade.gov/public/FRNoticesListLayout.aspx.

Preliminary Results of Review

Commerce preliminarily determines that the following estimated weighted-average dumping margins exist for the period September 1, 2021, through August 31, 2022: ¹¹

¹¹ As discussed in the Preliminary Decision Memorandum, Commerce preliminarily collapsed the following companies and treated them as a single entity: Maquilacero S.A. de C.V.; Tecnicas de Fluidos S.A. de C.V.

Exporter or producer | Weighted- average dumping margin (percent)
Maquilacero S.A. de C.V.; Tecnicas de Fluidos S.A. de C.V | 7.22
Productos Laminados de Monterrey S.A. de C.V | 8.13

Disclosure and Public Comment

Commerce intends to disclose its calculations and analysis performed to interested parties for these preliminary results within five days of any public announcement or, if there is no public announcement, within five days of the date of publication of this notice in accordance with 19 CFR 351.224(b).

Interested parties may submit case briefs or other written comments to Commerce no later than 30 days after the date of publication of this notice.¹² Rebuttal briefs, limited to issues raised in the case briefs, may be filed no later than five days after the time limit for filing case briefs.¹³ Parties who submit case briefs or rebuttal briefs in this proceeding must submit: (1) a statement of the issue; (2) a brief summary of the argument; and (3) a table of authorities.¹⁴

¹² See 19 CFR 351.309(c)(1)(ii); see also 19 CFR 351.303 (for general filing requirements).

¹³ See 19 CFR 351.309(d); see also Administrative Protective Order, Service, and Other Procedures in Antidumping and Countervailing Duty Proceedings, 88 FR 67069, 67077 (September 29, 2023) (APO and Service Final Rule).

¹⁴ See 19 CFR 351.309(c)(2) and (d)(2).

As provided under 19 CFR 351.309(c)(2) and (d)(2), in prior proceedings, we have encouraged interested parties to provide an executive summary of their brief that should be limited to five pages total, including footnotes. In this review, we instead request that interested parties provide, at the beginning of their briefs, a public executive summary for each issue raised in their briefs.¹⁵ Further, we request that interested parties limit their public executive summary of each issue to no more than 450 words, no including citations. We intend to use the public executive summaries as the basis of the comment summaries included in the issues and decision memorandum that will accompany the final results in this administrative review. We request that interested parties include footnotes for relevant citations in the public executive summary of each issue. Note that Commerce has amended certain of its requirements pertaining to the service of documents in 19 CFR 351.303(f).¹⁶

¹⁵ We use the term “issue” here to describe an argument that Commerce would normally address in a comment of the Issues and Decision Memorandum.

¹⁶ See APO and Service Final Rule.

Pursuant to 19 CFR 351.310(c), interested parties who wish to request a hearing must submit a written request to the Acting Assistant Secretary for Enforcement and Compliance, U.S. Department of Commerce, filed electronically via ACCESS. Hearing requests should contain: (1) the party's name, address, and telephone number; (2) the number of participants; and (3) a list of issues to be discussed. Issues raised in the hearing will be limited to issues raised in the respective case briefs. If a request for a hearing is made, Commerce intends to hold the hearing at a date and time to be determined and will notify the parties through ACCESS.17 Parties should confirm the date, time, and location of the hearing two days before the scheduled date. All submissions, including case and rebuttal briefs, as well as hearing requests, should be filed using ACCESS. An electronically-filed document must be received successfully in its entirety by ACCESS ¹⁷ by 5:00 p.m. Eastern Time on the established deadline.

¹⁷ See 19 CFR 351.310(d).

Assessment Rates

Pursuant to section 751(a)(2)(A) of the Act, upon completion of the final results of this administrative review, Commerce shall determine, and U.S. Customs and Border Protection (CBP) shall assess, antidumping duties on all appropriate entries.¹⁸

¹⁸ See 19 CFR 351.212(b).

Pursuant to 19 CFR 351.212(b)(1), if a respondent's weighted-average dumping margin is not zero or de minimis (i.e., less than 0.50 percent) in the final results of this review, we intend to calculate an importer-specific ad valorem assessment rate based on the ratio of the total amount of dumping calculated for each importer's examined sales to the total entered value of those same sales.¹⁹ If the respondent has not reported entered values, we will calculate a per-unit assessment rate for each importer by dividing the total amount of dumping calculated for the examined sales made to that importer by the total quantity associated with those sales. To determine whether an importer-specific, per-unit assessment rate is de minimis, in accordance with 19 CFR 351.106(c)(2), we also will calculate an importer-specific ad valorem ratio based on estimated entered values. If either of the respondents' weighted average dumping margin is zero or de minimis within the meaning of 19 CFR 351.106(c)(1), or an importer-specific assessment rate is zero or de minimis, in the final results of review, we intend to instruct CBP to liquidate appropriate entries without regard to antidumping duties.²⁰

¹⁹ See Antidumping Proceedings: Calculation of the Weighted-Average Dumping Margin and Assessment Rate in Certain Antidumping Proceedings; Final Modification, 77 FR 8101 (February 14, 2012) (Final Modification for Reviews).

²⁰ Id., 77 FR at 8102-03; see also 19 CFR 351.106(c)(2).

For entries of subject merchandise during the POR produced by each individually examined respondent for which the producer did not know that the merchandise was destined for the United States, we will instruct CBP to liquidate unreviewed entries at the all-others rate (4.91 percent) if there is no rate for the intermediate company(ies) involved in the transaction.²¹

²¹ See Order; see also Antidumping and Countervailing Duty Proceedings: Assessment of Antidumping Duties, 68 FR 23954 (May 6, 2003).

For the companies for which this review is being rescinded, in part, Commerce will instruct CBP to assess antidumping duties on all appropriate entries. Antidumping duties shall be assessed at rates equal to the cash deposit rate for estimated antidumping duties required at the time of entry, or withdrawal from warehouse, for consumption, in accordance with 19 CFR 351.212(c)(1)(i). With respect to the recission of this review, in part, Commerce intends to issue assessment instructions to CBP no earlier than 41 days after the date of publication of this notice in the Federal Register.

The final results of this administrative review shall be the basis for the assessment of antidumping duties on entries of merchandise covered by this review and for future deposits of estimated duties, where applicable.²²

²² See section 751(a)(2)(C) of the Act.

Commerce intends to issue assessment instructions to CBP no earlier than 41 days after the date of publication of the final results of this review in the Federal Register, in accordance with 19 CFR 356.8(a).

Cash Deposit Requirements

The following cash deposit requirements will be effective for all shipments of the subject merchandise entered, or withdrawn from warehouse, for consumption on or after the publication date of the final results of this administrative review, as provided by section 751(a)(2)(C) of the Act: (1) the cash deposit rate for the companies listed above will be equal to the weighted-average dumping margin established in the final results of this review, except if the rate is less than 0.50 percent and, therefore, de minimis within the meaning of 19 CFR 351.106(c)(1), in which case the cash deposit rate will be zero; (2) for merchandise exported by companies not covered in this review but covered in a prior segment of this proceeding, the cash deposit rate will continue to be the company-specific rate published in the completed segment for the most recent period; (3) if the exporter is not a firm covered in this review, a prior review, or the original less-than-fair-value (LTFV) investigation, but the producer is, then the cash deposit rate will be the rate established in the completed segment for the most recent period for the producer of the merchandise; and (4) the cash deposit rate for all other producers or exporters will continue to be 4.91 percent, the all-others rate established in the LTFV investigation.²³ These cash deposit requirements, when imposed, shall remain in effect until further notice.

²³ See Order.

Final Results of Review

Unless the deadline is otherwise extended, Commerce intends to issue the final results of this administrative review, including the results of its analysis of issues raised by interested parties in the written comments, within 120 days of publication of these preliminary results in the Federal Register.²⁴

²⁴ See section 751(a)(3)(A) of the Act; see also 19 CFR 351.213(h).

Notification to Importers

This notice serves as a preliminary reminder to importers of their responsibility under 19 CFR 351.402(f) to file a certificate regarding the reimbursement of antidumping duties prior to liquidation of the relevant entries during this review period. Failure to comply with this requirement could result in Commerce's presumption that reimbursement of antidumping duties occurred and the subsequent assessment of doubled antidumping duties.

Notification to Interested Parties

We are issuing and publishing these results in accordance with sections 751(a)(1) and 777(i)(1) of the Act, and 19 CFR 351.221(b)(4).

Dated: October 4, 2024.
Ryan Majerus,
Deputy Assistant Secretary for Policy and Negotiations performing the non-exclusive functions and duties of the Assistant Secretary for Enforcement and Compliance.

Appendix

List of Topics Discussed in the Preliminary Decision Memorandum

I. Summary

II. Background

III. Scope of the Order

IV. Affiliation and Single Entity Treatment

V. Discussion of the Methodology

VI. Currency Conversion

VII. Recommendation

[FR Doc. 2024-24497 Filed 10-22-24; 8:45 am]

BILLING CODE 3510-DS-P